DEPARTMENT OF HEALTH AND HUMAN SERVICES

Indian Health Service

Division of Behavioral Health; Youth Regional Treatment Center Aftercare Pilot Project

Announcement Type: New.

Funding Announcement Number: HHS-2018-IHS-YRTC-0001.

Catalog of Federal Domestic Assistance Number: 93.933.

Key Dates

Application Deadline Date: October 1, 2017.

Review Date: October 9, 2017.

Earliest Anticipated Start Date: November 1, 2017.

Signed Tribal Resolutions Due Date: October 1, 2017.

Proof of Non-Profit Status Due Date: October 1, 2017.

I. Funding Opportunity Description

Statutory Authority

The Indian Health Service (IHS) Office of Clinical and Preventative Services, Division of Behavioral Health (DBH), is accepting applications for a cooperative agreement for Youth Regional Treatment Center Aftercare Pilot Projects (Short Title: Youth Aftercare). This program was established by the Consolidated Appropriations Act of 2017, Public Law 115-31, 131 Stat. 135 (2017). This program is authorized by 25 U.S.C. 13, the Snyder Act, and the Indian Health Care Improvement Act, 25 U.S.C. 1665a and 1665g. This program is described in the Catalog of Federal Domestic Assistance (CFDA) under 93.933.

Background

According to data from the CDC Youth Risk Behavior Surveillance Survey, American Indian and Alaska Native (AI/AN) youth self-report higher rates of illicit substance use when compared to the general population. Substance use among AI/AN youth contributes to an increased risk of negative social problems that can range from delinquency to violence, including higher rates of suicide, and alcohol and drug-related deaths when compared to U.S. all-races (2014 Trends In Indian Health).

The IHS currently funds 11 Youth Residential Treatment Centers (YRTC) that provide a range of clinical services rooted in culturally relevant, holistic models of care. However, once AI/AN youth are discharged from the YRTC, they are faced with leaving a structured environment only to return home to families who may be unprepared to offer the needed support and where aftercare/case management resources can be limited.

Purpose

The purpose of the YRTC Aftercare Pilot Project cooperative agreement is to address the gap in services that occurs when youth are discharged upon successful completion of a YRTC treatment program and return to their home community where necessary support systems may not exist. Insufficient options for continued care at home and in the community significantly decrease the likelihood of a continued journey of wellness for youth exiting the care of an YRTC. This pilot project will develop promising practices between YRTCs and Tribal communities to reduce alcohol and substance use relapse by identifying transitional services that can be culturally adapted to meet the needs of AI/AN youth to increase resiliency, self-coping, and provide support systems. By exploring solutions for how this continuum of care should take place after inpatient treatment, efforts will be made to establish community-based approaches to reduce alcohol and substance use relapse and establish effective reintegration processes.

Each application for the YRTC Aftercare Pilot Program will be required to address the following six objectives as outlined (and detailed in Section A, Part B—Proposed Approach) in their project narrative.

1. Provide aftercare and case management services.

2. Create and train community support systems in evidence-based care.

3. Identify and implement best practices for increasing access to transitional services.

4. Incorporate social media into aftercare practices.

5. Increase data collection for post residential discharged youth.

6. Evaluate and disseminate information among all YRTC facilities.

All six of the objectives must be addressed in the application. If an application submission does not address all of the objectives in the Project Narrative scope of work, the application will not be considered for funding.

II. Award Information

Type of Award:Cooperative Agreement.

Estimated Funds Available

The funding identified for the current fiscal year (FY) 2017 is $810,000. The amount of funding identified for Year 2 and Year 3 of the cooperative agreement is $810,000. The amount of funding available for competing and continuation awards issued under this announcement is subject to the availability of appropriations and budgetary priorities of the Agency. The IHS is under no obligation to make awards that are selected for funding under this announcement.

Anticipated Number of Awards

One award for $810,000 will be issued under this program announcement.

Project Period

The project period is for three years and will run consecutively from November 1, 2017 to October 31, 2020.

Cooperative Agreement

Cooperative agreements awarded by the Department of Health and Human Services (HHS) are administered under the same policies as a grant. However, the funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

The IHS assigned program official will monitor the overall progress of the awardee's execution of the requirements of the award: IHS award noted below as well as their adherence to the terms and conditions of the cooperative agreements. This includes providing guidance for required reports, developing of tools, and other products, interpreting program findings, and assisting with evaluations and overcoming any difficulties or performance issues encountered.

B. Grantee Cooperative Agreement Award Activities

• Provide aftercare and case management services.

(a) Support for an additional YRTC coordinator or case manager to:

(i) Establish, in partnership with youth, a post treatment plan.

(ii) Develop partnerships with service providers and community programs at the community level.

(iii) Improve engagement with families and support systems of AI/AN youth participating in an YRTC program. Suggested activities may include travel assistance for family members to increase participation during youth treatment and positive parenting curriculum to parents while their youth is in care and post-treatment.

(b) Provide Peer Recovery Support Specialist certification.

(i) Increase placement of peer-to-peer support in partner community sites of youth participants.

(ii) Provide ongoing training to Peer Recovery Support Specialist from partner communities.

• Create and train community support systems in evidence-based care.

(a) This may include how to identify signs of relapse, how to identify signs of mental health distress, how to navigate community referral processes, and how to manage prescription drugs.

• Identify and implement best practices for increasing access to transitional services.

(a) This may include assistance with: Planning for education, referring to natural helpers, referral for housing, accompanying youth to outpatient or other community services, accessing culturally appropriate interventions, consultation with employers, in-home evaluations of family or living situations, parenting support, and transitioning to adult services.

• Incorporate social media into aftercare practices.

(a) Explore and identify new avenues for incorporating social media into aftercare practices (e.g., production of peer to peer support applications and encouragement to find aftercare support through interactive technology).

• Increase data collection for post residential discharged AI/AN youth.

(a) Increase data collection for post residential discharged youth through established data collection plans including post treatment outcomes for AI/AN youth at 30, 60, 90 days, 6 months and one year through a data collection process. (See Section A Part D—Performance Measurement Plan and Evaluation.)

• Evaluate and disseminate information among all YRTC facilities.

(a) Develop, maintain, and disseminate comprehensive information on AI/AN youth aftercare practices to be shared among all YRTC leadership. This information should be focused on promising and best practices, service delivery, quality improvement, and strategies to be used among all YRTCs.

• Maintain open and consistent communication with the IHS program official on any financial or programmatic barriers to meeting the requirements of the award.

III. Eligibility Information

I.

1. Eligibility

To be eligible for this “New FY2018 Funding Opportunity” under this announcement, applicants must be one of the following as defined by 25 U.S.C. 1603:

• A Federally-recognized Indian Tribe as defined by 25 U.S.C. 1603(14). The term “Indian Tribe” means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in the Indian Self-Determination and Education Assistance Act (at 25 U.S.C. 5304(1)): “Tribal organization” means the recognized governing body of any Indian Tribe; any legally established organization of Indians which is controlled, sanctioned, or chartered by such governing body or which is democratically elected by the adult members of the Indian community to be served by such organization and which includes the maximum participation of Indians in all phases of its activities: Provided, That in any case where a contract is let or grant made to an organization to perform services benefiting more than one Indian Tribe, the approval of each such Indian Tribe shall be a prerequisite to the letting or making of such contract or grant.

Note: Please refer to Section IV.2 (Application and Submission Information/Subsection 2, Content and Form of Application Submission) for additional proof of applicant status documents required, such as Tribal resolutions, proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Tribal Resolution

An Indian Tribe or Tribal organization that is proposing a project affecting another Indian Tribe must include resolutions from all affected Tribes to be served. Applications by Tribal organizations will not require a specific Tribal resolution if the current Tribal resolution(s) under which they operate would encompass the proposed grant activities.

An official signed Tribal resolution must be received by the DGM prior to a Notice of Award (NoA) being issued to any applicant selected for funding. However, if an official signed Tribal resolution cannot be submitted with the electronic application submission prior to the official application deadline date, a draft Tribal resolution must be submitted by the deadline in order for the application to be considered complete and eligible for review. The draft Tribal resolution is not in lieu of the required signed resolution, but is acceptable until a signed resolution is received. If an official signed Tribal resolution is not received by DGM when funding decisions are made, then a NoA will not be issued to that applicant and they will not receive any IHS funds until such time as they have submitted a signed resolution to the Grants Management Specialist listed in this Funding Announcement.

Proof of Non-Profit Status

Organizations claiming non-profit status must submit proof. A copy of the 501(c)(3) Certificate must be received with the application submission by the Application Deadline Date listed under the Key Dates section on page one of this announcement.

An applicant submitting any of the above additional documentation after the initial application submission due date is required to ensure the information was received by the IHS DGM by obtaining documentation confirming delivery (i.e. FedEx tracking, postal return receipt, etc.).

IV. Application and Submission Information

1. Obtaining Application Materials

The application package and detailed instructions for this announcement can be found at http://www.Grants.gov or http://www.ihs.gov/dgm/funding/.

Questions regarding the electronic application process may be directed to Mr. Paul Gettys at (301) 443-2114 or (301) 443-5204.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Project Narrative (must be single-spaced and not exceed 10 pages).

○ Includes the statement of need, proposed scope of work, required objectives, and activities that provide a description of what will be accomplished, an Evaluation and Performance Measurement Plan, and a budget/budget narrative.

• Tribal Resolution(s).

• Letters of Support from organization's Board of Directors.

• 501(c)(3) Certificate (if applicable).

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Documentation of current Office of Management and Budget (OMB) Financial Audit (if applicable).

Acceptable forms of documentation include:

○ Email confirmation from Federal Audit Clearinghouse (FAC) that audits were submitted; or

○ Face sheets from audit reports. These can be found on the FAC Web site: https://harvester.census.gov/facdissem/Main.aspx

Public Policy Requirements

All Federal-wide public policies apply to IHS grants and cooperative agreements with exception of the Discrimination policy.

Requirements for Project and Budget Narratives

The project narrative (Parts A through D listed below) and budget/budget narrative should be a separate Word document not to exceed 12 pages total and must: Be single-spaced, type written, have consecutively numbered pages, use black type not smaller than 12 points, and be printed on one side only of standard size 8½″ x 11″ paper.

Be sure to succinctly but completely answer all questions listed under the evaluation criteria (refer to Section V.1, Evaluation criteria in this announcement) and place all responses and required information in the correct section (noted below), or they will not be considered or scored. These narratives will assist the Objective Review Committee (ORC) in becoming familiar with the applicant's activities and accomplishments prior to this possible cooperative agreement award. If the narrative exceeds the page limit, only the first 12 pages will be reviewed. The 12 page limit for the project narrative and budget/budget narrative does not include the work plan, standard forms, Tribal resolutions, table of contents, and/or other appendix items.

A. Project Narrative: (10 Pages)

There are four (4) parts to the project narrative:

Part A—Statement of Need;

Part B—Project Narrative/Proposed Approach;

Part C—Organizational Capacity and Staffing/Administration; and,

Part D—Performance Measurement Plan and Evaluation;

Below are additional details about what must be included in the project narrative.

Part A: Statement of Need (2 Pages)

The statement of need describes the history and catchment area currently served by the applicant YRTC, including Tribal communities (“community” means the applicant's Tribe, village, Tribal organization, or consortium of Tribes or Tribal organizations). The statement of need provides the facts and evidence that support the need for the project and establishes that the YRTC understands the problems and can reasonably address them. The statement of need must not exceed two single-spaced pages. This section must also succinctly but completely answer the questions listed under the evaluation criteria in Section V.1.A Statement of Need.

• Describe the current service gaps, including disconnection between available services and unmet needs of AI/AN youth, up to and including age 24, and their families. This should include services at the YRTC and in communities where youth reside.

• Describe the need for an enhanced infrastructure to increase the capacity to implement, sustain, and improve effective aftercare activities offered to youth exiting YRTC care and any other service gaps and problems related to the need for infrastructure development within the YRTC.

Part B: Project Narrative/Proposed Approach (4 Pages)

State the purpose, goals and objectives of your proposed project. Clearly state how proposed activities address the needs detailed in the statement of need. Describe fully and clearly plans to meet the six objectives of this funding announcement outlined in the Purpose Section of this announcement. Each objective should be addressed with a corresponding timeframe. This section must succinctly but completely answer the questions listed under the evaluation criteria in Section V.1.B Project Narrative/Proposed Approach. Provide a work plan for year one project period that details expected key activities, accomplishments, and include responsible staff. [Note: The timeline will not count towards the 10 page limit and should be added as an attachment.]

Projects supported through the YRTC Aftercare shall address each objective with specific attention to activities detailed below:

1. Describe plans to increase capacity for aftercare/case management services:

(a) Detail how project will provide support for an additional YRTC coordinator or case management role to:

i. Establish, in partnership with youth, a post treatment plan.

ii. Develop partnerships with service providers and community programs at the community level.

iii. Improve engagement with families and support systems of AI/AN youth while in YRTC care. Suggested activities may include travel assistance for family members to increase participation during youth treatment and positive parenting curriculum to parents while their youth is in care and post-treatment.

(b) Provide Peer Recovery Support Specialist certification

i. Increase placement of peer-to-peer support in partnering community sites where youth reside after discharge.

ii. Provide ongoing training to Peer Recovery Support Specialists from local communities.

2. Describe a plan to create and train community support systems using evidence-based care.

(a) This may include how to identify signs of relapse, how to identify signs of mental health distress, how to navigate community referral processes, positive parenting, and how to manage prescription drugs.

3. Describe projected plans to identify and implement best practices for administering transitional services.

(a) This may include assistance with: Planning for education, referring to natural helpers, referral for housing, accompanying youth to outpatient or other community services, accessing culturally appropriate interventions, consultation with employers, home visiting programs, in-home evaluations of family or living situations, home visiting, parenting support, and transitioning to adult services.

4. Include expected sources and approach to explore and identify new avenues for incorporating social media into aftercare practices (e.g., production of peer to peer support applications for encouragement to find aftercare support through interactive technology).

5. Describe a plan that will support data collection for post residential discharged youth through established data collection plans including post treatment outcomes for AI/AN youth at 30, 60, 90 days, 6 months and one year through a data collection process. (See Section V.1.D Performance Measurement Plan and Evaluation Plan.)

6. Describe a plan to develop evaluation and dissemination activities including lessons learned throughout the three years of funding. This should include presentations at conferences and webinars targeted at the IHS funded YRTCs.

Part C: Organizational Capacity and Staffing/Administration (2 Page)

This section should describe your organization's significant program activities and accomplishments over the past three years outlined by the goals listed under the Purpose Section of this announcement. Current staff and future positions should also be outlined. This section must succinctly but completely answer the questions listed under the evaluation criteria in Section V.1.C Organizational Capabilities and Staffing/Administration.

• Identify qualified professionals who will implement proposed grant activities, administer the grant, including progress and financial reports.

• Identify staff to maintain open and consistent communication with the IHS program official on any financial or programmatic barriers to meeting the requirements of the award.

• Describe the organization's plan to hire or provide salary costs for full-time equivalent (FTE) additional YRTC coordinator or case manager.

• Describe the organizations current system and ability to develop partnerships with service providers and community programs including families and support systems of AI/AN youth residents.

• Describe potential project partners and community resources in the catchment area that can participate in the planning process and infrastructure development.

Part D: Performance Measurement Plan and Evaluation (2 Pages)

This section of the application should describe efforts to collect and report project data that will support and demonstrate YRTC Aftercare Pilot Project activities. YRTC Aftercare grantees will be required to collect and report data pertaining to activities, processes and outcomes. Data collection activities should capture and document actions conducted throughout awarded years including those that will contribute to relevant project impact. This section should also describe applicant's plan to evaluate program activities including any evidence-based treatment programs implemented. The evaluation plan should describe expected results and any identified metrics to support program effectiveness. Evaluation plans should incorporate questions related to outcomes and process including documentation of lessons learned. This section must succinctly but completely answer the questions listed under the evaluation criteria in Section V.1.D Performance Measurement Plan and Evaluation Plan.

• Describe in a brief narrative a plan to monitor activities under each objective, demonstrate progress towards program outcomes and inform future program decisions over the three-year project period.

• Reporting on this plan will occur on an annual basis and at the end of the project period. IHS will work with awardees during the first six months of the project period to finalize an evaluation and performance measurement plan to better monitor the progress of the activities implemented and outcomes achieved.

• Describe proposed evaluation methods including performance measures and other data relevant to evaluation outcomes including intended results (i.e., impact and outcomes), include any partners who will assist in evaluation efforts if separate from the primary applicant.

B. Budget and Budget Narrative (2 Pages)

This narrative must include a line item budget with a narrative justification for all expenditures identifying reasonable allowable, allocable costs necessary to accomplish the goals and objectives as outlined in the project narrative. The budget should match the scope of work described in the project narrative. The budget and budget narrative should not exceed two pages. This section must succinctly but completely answer the questions listed under the evaluation criteria in Section V.1.E Budget and Budget Narrative.

3. Submission Dates and Times

Applications must be submitted electronically through Grants.gov by 11:59 p.m. Eastern Daylight Time (EDT) on the Application Deadline Date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Gettys (Paul.Gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Follow the instructions for submitting an application under the Package tab. Electronic copies of the application may not be submitted as attachments to email messages addressed to IHS employees or offices.

If the applicant needs to submit a paper application instead of submitting electronically through Grants.gov, a waiver must be requested. Prior approval must be requested and obtained from Mr. Robert Tarwater, Director, DGM, (see Section IV.6 below for additional information). A written waiver request must be sent to GrantsPolicy@ihs.gov with a copy to Robert.Tarwater@ihs.gov. The waiver must: (1) Be documented in writing (emails are acceptable), before submitting a paper application, and (2) include clear justification for the need to deviate from the required electronic grants submission process.

Once the waiver request has been approved, the applicant will receive a confirmation of approval email containing submission instructions and the mailing address to submit the application. A copy of the written approval must be submitted along with the hardcopy of the application that is mailed to DGM. Paper applications that are submitted without a copy of the signed waiver from the Director of the DGM will not be reviewed or considered for funding. The applicant will be notified via email of this decision by the Grants Management Officer of the DGM. Paper applications must be received by the DGM no later than 5:00 p.m., EDT, on the Application Deadline Date listed in the Key Dates section on page one of this announcement. Late applications will not be accepted for processing or considered for funding. Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this funding announcement.

• After electronically submitting the application, the applicant will receive an automatic acknowledgment from Grants.gov that contains a Grants.gov tracking number. The DGM will download the application from Grants.gov and provide necessary copies to the appropriate agency officials. Neither the DGM nor the DBH will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, you may access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: http://www.ihs.gov/dgm/policytopics/.

V. Application Review Information

The instructions for preparing the application narrative also constitute the evaluation criteria for reviewing and scoring the application. Weights assigned to each section are noted in parentheses. The 10 page project narrative and 2 page budget/budget narrative should include only the first year of activities; information for multi-year projects should be included as an appendix. See “Multi-year Project Requirements” at the end of this section for more information. The narrative section should be written in a manner that is clear to outside reviewers unfamiliar with prior related activities of the applicant. The project narrative and budget/budget narrative should be well organized, succinct, and contain all information necessary for reviewers to understand the project fully. Points will be assigned to each evaluation criteria adding up to a total of 100 points. A minimum score of 65 points is required for funding. Points are assigned as follows:

1. Evaluation Criteria

Applications will be reviewed and scored according to the quality of responses to the required application components in Sections A-E outlined below. In developing the required sections of this application, use the instructions provided for each section, which have been tailored to this program. The application must use the five sections (Sections A-E) listed below in developing the application. The applicant must place the required information in the correct section or it will not be considered for review. The application will be scored according to how well the applicant addresses the requirements for each section listed below. The number of points after each section heading is the maximum number of points the review committee may assign to that section. Although scoring weights are not assigned to individual bullets, each bullet is assessed deriving the overall section score.

A. Statement of Need (25 Points)

The statement of need should not exceed two single-spaced pages. Applications will be evaluated based on following criteria:

• Identify the proposed catchment area and provide demographic information on the population(s) to receive services through the targeted systems or agencies, e.g., race, ethnicity, Federally recognized Tribe, language, age, socioeconomic status, sexual identity (sexual orientation, gender identity), or other relevant factors, such as substance use rates or related health outcomes related to substance use. Describe the stakeholders and resources in the catchment area that can help implement the needed infrastructure development.

• Based on the information and/or data currently available, document the need for an enhanced infrastructure to increase the capacity to implement, sustain, and improve effective aftercare activities offered to youth exiting YRTC care.

• Based on available data, describe the service gaps and other problems related to the need for infrastructure development within the YRTC. Identify the source of the data. Documentation of need may come from a variety of qualitative and quantitative sources. Examples of data sources for the quantitative data that could be used are local epidemiologic data (TECs, IHS area offices), state data (e.g., from state needs assessments), and/or national data (e.g., SAMHSA's National Survey on Drug Use and Health or from National Center for Health Statistics/Centers for Disease Control reports, and census data). This list is not exhaustive; applicants may submit other valid data, as appropriate for the applicant's program.

B. Project Narrative/Proposed Approach (30 Points)

The project narrative required components (listed as the four components in “Requirements for Project Narrative”) together should not exceed 10 single-spaced pages. Applications will be evaluated based on following criteria:

• Describe the purpose of the proposed project, including a clear statement of goals and objectives. The proposed project narrative is required to address all six objectives listed for Youth Aftercare.

1. Provide aftercare and case management services.

2. Create and train community support systems in evidence-based care.

3. Identify and implement best practices for increasing access to transitional services.

4. Incorporate social media into aftercare practices.

5. Increase data collection for post residential discharged youth.

6. Evaluate and disseminate information among all YRTC facilities.

• Describe how project activities will increase the capacity of a YRTC to improve the coordination of a collaborative behavioral health and wellness service systems including families and partner communities. Describe anticipated barriers and how these barriers will be addressed.

• Describe how the proposed project will address issues of diversity for AI/AN youth up to and including age 24 including race/ethnicity, gender, culture/cultural identity, language, sexual orientation, disability, and literacy.

• Describe how AI/AN youth up to and including age 24 and families may receive services and how they will be involved in the planning and implementation of the project.

• Describe how the efforts of the proposed project will be coordinated with any other related Federal grants, including IHS, SAMHSA, or BIA services provided in the community (if applicable).

• Provide a work plan for year one project period that details expected key activities, accomplishments, and include responsible staff. [Note: The timeline will not count towards the 10 page limit and should be added as an attachment.]

C. Organizational Capacity and Staffing/Administration (15 Points) Applications will be evaluated based on following criteria:

• Describe the management capability of the YRTC, applicant Tribe, and other participating organizations in administering similar cooperative agreements and projects.

• Identify staff to maintain open and consistent communication with the IHS program official on any financial or programmatic barriers to meeting the requirements of the award.

• Identify the department/division that will administer this project. Include a description of this entity, its function and its placement within the organization (Tribe, Tribal organization, or UIO) and its direct link to YRTC management.

• Discuss the applicant Tribe, Tribal organization, or UIO experience and capacity to provide culturally appropriate/competent services to the community and specific populations of focus.

• Describe the resources available for the proposed project (e.g., facilities, equipment, information technology systems, and financial management systems).

• Identify other organization(s) that will participate in the proposed project. Describe their roles and responsibilities and demonstrate their commitment to the project. Include a list of these organizations as an attachment to the project proposal/application. In the attached list, indicate the organizations that the Tribe, Tribal organization, or UIO has worked with or currently works with. [Note: The attachment will not count as part of the 10 page limit.]

• Describe how project continuity will be maintained if/when there is a change in the operational environment (e.g., staff turnover, change in project leadership, change in elected officials) to ensure project stability over the life of the grant.

• Provide a list of staff positions for the project, project director, project coordinator/caseworker, and other key personnel, showing the role of each and their level of effort and qualifications. Demonstrate successful project implementation for the level of effort budgeted for the behavioral health staff, project director, project coordinator, and other key staff.

• Include position descriptions as attachments to the application for the project director, project coordinator/caseworker, and all key personnel. Position descriptions should not exceed one page each. [Note: Attachments will not count against the 10 page maximum.]

• For individuals that are currently on staff, include a biographical sketch (not to include personally identifiable information) for each individual that will be listed as the behavioral health staff, project director, project coordinator, and other key positions. Describe the experience of identified staff in mental health promotion, suicide and substance abuse prevention work in the community/communities. Include each biographical sketch as attachments to the project proposal/application. Biographical sketches should not exceed one page per staff member. Reviewers will not consider information past page one. [Note: The attachment will not count as part of the 10 page limit.] Do not include any of the following:

• Personally Identifiable Information;

• Resumes; or

• Curriculum Vitae.

D. Performance Measurement Plan and Evaluation (20 Points)

Describe plans to monitor activities under each objective, demonstrate progress towards program outcomes and inform future program decisions over the three-year project period. Reporting on this plan will occur on an annual basis and at the end of the project period. IHS will work with awardees during the first six months of the project period to finalize an evaluation and performance measurement plan to better monitor the progress of the activities implemented and outcomes achieved. Applications will be evaluated based on following criteria and should address the following points:

• Describe proposed data collection efforts (performance measures and associated data) and how you will use the data to answer evaluation questions. This should include (a data collection method, a data source, a data measurement tool, identified staff for data management, and a data collection timeline).

• Identify key program partners and describe how they will participate in the implementation of the evaluation plan (e.g., Tribal Epidemiology Centers, local Tribal health boards, universities, etc.).

• Describe data collection and evaluation of any proposed evidence-based care programs implemented throughout awarded years.

• Describe how evaluating findings will be used at the applicant level. Discuss how data collected (i.e., performance measurement data) will be used and shared by the key program partners.

• Discuss any barriers or challenges expected for implementing the plan, collecting data (i.e., responding to performance measures), and reporting on evaluation results. Describe how these potential barriers would be overcome. In addition, applicants may also describe other measures to be developed or additional data sources and data collection methods that applicants will use.

E. Budget and Budget Narrative (10 Points)

Applications will be evaluated based on following criteria:

• Include a line item budget for all expenditures identifying reasonable and allowable costs necessary to accomplish the goals and objectives as outlined in the project narrative for Budget Year 1 only.

• Applicants should ensure that the budget and budget narrative are aligned with the project narrative. The Budget and Budget Narrative the applicant provides will be considered by reviewers in assessing the applicant's submission, along with the material in the Project Narrative. Questions to address include: What resources are needed to successfully carry out and manage the project? What other resources are available from the organization? Will new staff be recruited? Will outside consultants be required?

• For any outside consultants, include the total cost broken down by activity. This may be most pertinent for activities related to Objective 4.

• The budget and budget narrative must not exceed two single-spaced pages.

Multi-Year Project Requirements

Projects must also include a brief project narrative and budget for years two and three (one additional page per year) addressing the developmental plans for each additional year of the project. [Note: The attachment will not count as part of the 12 page limit that makes up the Project and Budget Narrative.]

Additional Documents Can Be Uploaded as Appendix Items in Grants.gov

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e. data tables, key news articles, etc.).

1. Review and Selection

Each application will be prescreened by the DGM staff for eligibility and completeness as outlined in the funding announcement. Applications that meet the eligibility criteria shall be reviewed for merit by the ORC based on evaluation criteria in this funding announcement. The ORC could be composed of both Tribal and Federal reviewers appointed by the IHS Program to review and make recommendations on these applications. The technical review process ensures selection of quality projects in a national competition for limited funding. Incomplete applications and applications that are non-responsive to the eligibility criteria will not be referred to the ORC. The applicant will be notified via email of this decision by the Grants Management Officer of the DGM. Applicants will be notified by DGM, via email, to outline minor missing components (i.e., budget narratives, audit documentation, key contact form) needed for an otherwise complete application. All missing documents must be sent to DGM on or before the due date listed in the email of notification of missing documents required.

To obtain a minimum score for funding by the ORC, applicants must address all program requirements and provide all required documentation.

VI. Award Administration Information

2. Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 65, and were deemed to be disapproved by the ORC, will receive an Executive Summary Statement from the IHS program office within 30 days of the conclusion of the ORC outlining the strengths and weaknesses of their application. The summary statement will be sent to the Authorized Organizational Representative that is identified on the face page (SF-424) of the application. The IHS program office will also provide additional contact information as needed to address questions and concerns as well as provide technical assistance if desired.

Approved But Unfunded Applicants

Approved but unfunded applicants that met the minimum scoring range and were deemed by the ORC to be “Approved,” but were not funded due to lack of funding, will have their applications held by DGM for a period of one year. If additional funding becomes available during the course of FY 2017 the approved but unfunded application may be re-considered by the awarding program office for possible funding. The applicant will also receive an Executive Summary Statement from the IHS program office within 30 days of the conclusion of the ORC.

Note: Any correspondence other than the official NoA signed by an IHS grants management official announcing to the project director that an award has been made to their organization is not an authorization to implement their program on behalf of IHS.

2. Administrative Requirements

Cooperative agreements are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) https://www.doi.gov/ibc/services/finance/indirect-Cost-Services/indian-Tribes. For questions regarding the indirect cost policy, please call the Grants Management Specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) the imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required annually, within 30 days after the budget period ends. These reports must include a brief comparison of actual accomplishments to the goals established for the period, a summary of progress to date or, if applicable, provide sound justification for the lack of progress, and other pertinent information as required. A final report must be submitted within 90 days of expiration of the budget/project period.

B. Financial Reports

Federal Financial Report (FFR or SF-425), Cash Transaction Reports are due 30 days after the close of every calendar quarter to the Payment Management Services, HHS at https://pms.psc.gov. It is recommended that the applicant also send a copy of the FFR (SF-425) report to the Grants Management Specialist. Failure to submit timely reports may cause a disruption in timely payments to the organization.

Grantees are responsible and accountable for accurate information being reported on all required reports: The Progress Reports and Federal Financial Report.

C. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the project period is made up of more than one budget period) and where: (1) The project period start date was October 1, 2010 or after and (2) the primary awardee will have a $25,000 sub-award obligation dollar threshold during any specific reporting period will be required to address the FSRS reporting.

For the full IHS award term implementing this requirement and additional award applicability information, visit the DGM Grants Policy Web site at: http://www.ihs.gov/dgm/policytopics/.

D. Compliance With Executive Order 13166 Implementation of Services

Accessibility Provisions for All Grant Application Packages and Funding Opportunity Announcements

Recipients of federal financial assistance (FFA) from HHS must administer their programs in compliance with federal civil rights law. This means that recipients of HHS funds must ensure equal access to their programs without regard to a person's race, color, national origin, disability, age and, in some circumstances, sex and religion. This includes ensuring your programs are accessible to persons with limited English proficiency. HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under federal civil rights laws at http://www.hhs.gov/ocr/about-us/contact-us/headquarters-and-regional-addresses/index.html or call 1-800-368-1019 or TDD 1-800-537-7697. Also note it is an HHS Departmental goal to ensure access to quality, culturally competent care, including long-term services and supports, for vulnerable populations. For further guidance on providing culturally and linguistically appropriate services, recipients should review the National Standards for Culturally and Linguistically Appropriate Services in Health and Health Care at http://minorityhealth.hhs.gov/omh/browse.aspx?lvl=2&lvlid=53.

Pursuant to 45 CFR 80.3(d), an individual shall not be deemed subjected to discrimination by reason of his/her exclusion from benefits limited by federal law to individuals eligible for benefits and services from the IHS.

Recipients will be required to sign the HHS-690 Assurance of Compliance form which can be obtained from the following Web site: http://www.hhs.gov/sites/default/files/forms/hhs-690.pdf, and send it directly to the: U.S. Department of Health and Human Services, Office of Civil Rights, 200 Independence Ave. SW., Washington, DC 20201.

F. Federal Awardee Performance and Integrity Information System (FAPIIS)

The IHS is required to review and consider any information about the applicant that is in the Federal Awardee Performance and Integrity Information System (FAPIIS) before making any award in excess of the simplified acquisition threshold (currently $150,000) over the period of performance. An applicant may review and comment on any information about itself that a federal awarding agency previously entered. IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a federal award to disclose, in a timely manner, in writing to the IHS or pass-through entity all violations of federal criminal law involving fraud, bribery, or gratuity violations potentially affecting the federal award.

Submission is required for all applicants and recipients, in writing, to the IHS and to the HHS Office of Inspector General all information related to violations of federal criminal law involving fraud, bribery, or gratuity violations potentially affecting the federal award. 45 CFR 75.113.

Disclosures must be sent in writing to:

U.S. Department of Health and Human Services, Indian Health Service, Division of Grants Management, ATTN: Robert Tarwater, Director, 5600 Fishers Lane, Mail Stop: 09E70, Rockville, MD 20857. (Include “Mandatory Grant Disclosures” in subject line). Office: (301) 443-5204, Fax: (301) 594-0899, Email: Robert.Tarwater@ihs.gov.

AND

U.S. Department of Health and Human Services, Office of Inspector General, ATTN: Mandatory Grant Disclosures, Intake Coordinator, 330 Independence Avenue SW., Cohen Building, Room 5527, Washington, DC 20201, URL: http://oig.hhs.gov/fraud/report-fraud/index.asp. (Include “Mandatory Grant Disclosures” in subject line). Fax: (202) 205-0604 (Include “Mandatory Grant Disclosures” in subject line) or Email: MandatoryGranteeDisclosures@oig.hhs.gov.

Failure to make required disclosures can result in any of the remedies described in 45 CFR 75.371 Remedies for noncompliance, including suspension or debarment (See 2 CFR parts 180 & 376 and 31 U.S.C. 3321).

VII. Agency Contacts

1. Questions on the programmatic issues may be directed to: Raven Ross, Division of Behavioral Health, 5600 Fishers Lane, Mail Stop: 08N34-A, Rockville, MD 20857, Fax: (301) 594-6213, Email: Raven.Ross@ihs.gov.

2. Questions on grants management and fiscal matters may be directed to: Andrew Diggs, Senior Grants Management Specialist, 5600 Fishers Lane, Mail Stop: 09E70, Rockville, MD 20857, (301) 443-2241, Fax: (301) 594-0899, Email: Andrew.Diggs@ihs.gov.

3. Questions on systems matters may be directed to: Paul Gettys, Grant Systems Coordinator, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: September 29, 2017.
Michael D. Weahkee,
RADM, Assistant Surgeon General, U.S. Public Health Service, Acting Director, Indian Health Service.

[FR Doc. 2017-21786 Filed 10-10-17; 8:45 am]

BILLING CODE 4165-16-P